DEPARTMENT OF LABOR

Employment and Training Administration

[TA-W-61,261]

Missbrenner Prints, Inc.; Clifton, NJ; Notice of Termination of Investigation

Pursuant to Section 221 of the Trade Act of 1974, as amended, an investigation was initiated on April 9, 2007 in response to a petition filed by a company official on behalf of workers of Missbrenner Prints, Inc., Clifton, New Jersey.

The petitioning group of workers is covered by an earlier petition (TA-W-60,945) filed on February 12, 2007, that is the subject of an ongoing investigation for which a determination has not yet been issued.

Further investigation in this case would serve no purpose. Therefore, the investigation under this petition has been terminated.

Signed at Washington, DC, this 12th day of April, 2007.
Linda G. Poole,
Certifying Officer, Division of Trade Adjustment Assistance.

[FR Doc. E7-7622 Filed 4-20-07; 8:45 am]

BILLING CODE 4510-FN-P